DEPARTMENT OF ENERGY

Federal Energy Regulatory Commission

[Docket Nos. RP95-197-044 and RP97-71-036]

Transcontinental Gas Pipe Line Corporation; Notice of Compliance Filing

September 19, 2002.

Take notice that on September 13, 2002 Transcontinental Gas Pipe Line Corporation (Transco) tendered for filing as part of its FERC Gas Tariff, Third Revised Volume No. 1, certain revised tariff sheets listed on Appendix A attached to the filing, which contains the enumeration and effective date of the revised tariff sheets.

On August 30, 2002 Transco submitted with the Commission a filing in Docket Nos. RP-95-197-042 and RP97-71-034 in which Transco proposed to revise its settlement rates in Docket No. RP01-245-000 to implement the roll-in of the costs of Transco's Leidy Line and Southern expansion projects as authorized by various Commission orders in Transco's Docket Nos. RP95-197 and RP97-71 proceeding, and to comply with the Commission's finding in that proceeding that Transco must unbundle the cost of its Emergency Eminence Storage Withdrawal Service (Roll-In Filing).¹ Subsequent to the Roll-In Filing, several of Transco's customers have expressed concerns regarding Transco's presentation of the Emergency Eminence Storage Withdrawal Service Charge (Emergency Eminence Charge) on the filed tariff sheets.

¹ On September 5, 2001 Transco submitted certain substitute tariff sheets to supplement its filing in Docket Nos. RP95-197-042 and RP97-71-34 in order to correct an error in the Annual Charge Adjustment (ACA) rate.

In order to address these concerns and to clarify any confusion regarding the applicability of the Emergency Eminence Charge, Transco is submitting certain substitute tariff sheets as enumerated in Appendix A attached to the filing. In that regard, the tariff sheets submitted in the instant filing clarify that the Emergency Eminence Charge shall only apply to those contracts that have Transportation Contract Quantity (TCQ) entitlements at the point on Transco's mainline system where Transco's facilities interconnect the Eminence Storage Field facilities.

Transco states that copies of the filing are being mailed to affected customers and interested State Commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-24325 Filed 9-25-02; 8:45 am]

BILLING CODE 6717-01-P